DEPARTMENT OF TRANSPORTATION

National Highway Traffic Safety Administration

[DOT Docket No. NHTSA-06-26554]

Reports, Forms, and Recordkeeping Requirements

AGENCY: National Highway Traffic Safety Administration (NHTSA), Department of Transportation (DOT).

ACTION: Request for public comment on proposed collection of information.

SUMMARY: This notice solicits public comment on continuation of the requirements for the collection of information on safety standards. Before a Federal agency can collect certain information from the public, it must receive approval from the Office of Management and Budget (OMB). Under procedures established by the Paperwork Reduction Act of 1995, before seeking approval, Federal agencies must solicit public comment on proposed collections of information, including extensions and reinstatement of previously approved collections.

This document describes a collection of information associated with 49 CFR Part 574, Tire Identification and Recordkeeping.

DATES: Comments must be received on or before April 20, 2007.

ADDRESSES: Comments must refer to the docket notice number cited at the beginning of this notice and be submitted to the Office of Information and Regulatory Affairs, Office of Management and Budget, Att'n: Desk Officer for NHTSA, 725 17th Street, NW., Washington, DC 20503. Please identify the proposed collection of information for which a comment is provided, by referencing its OMB clearance number. It is requested, but not required, that 2 copies of the comment be provided.

FOR FURTHER INFORMATION CONTACT: Complete copies of each request for collection may be obtained from Mr. George Soodoo, NVS-122, National Highway Traffic Safety Administration, 400 Seventh St., SW., Washington, DC 20590. Mr. Soodoo's telephone number is (202) 366-5274.

SUPPLEMENTARY INFORMATION: Under the Paperwork Reduction Act of 1995, before a proposed collection of information is submitted to OMB for approval, Federal agencies must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

The agency published the 60-day notice on December 8, 2006 (71 FR 712380). In addition to asking for comments on the above issues, the notice included eight additional questions that were specific to the information collection requirements for new tires. The eight questions related to quantifying the effectiveness of the current requirements and considerations for the use of alternate methods such as electronic registration of new tires that might improve the tire registration rate. In response to the notice, comments were received from the following organizations: National Automobile Dealers Association (NADA); Rubber Manufacturers Association (RMA); Computerized Information & Management Services, Inc. (CIMS); National Tire Registry Recall.Com (NTRR); and Tire Industry Association (TIA). A short summary of each respondent's comments is provided below.

RMA stated that the continued registration of new tire purchasers is a critically important safety issue so that consumers can be notified in the event of a product recall or other safety problem. However, it urges NHTSA to either interpret or revise Part 574 to allow an electronic alternative to the current paper card system. RMA has data showing that less than 10 percent of tire registration cards are currently being returned to the tire manufacturer and many of these cards are inaccurate, incomplete, or illegible. RMA requests that NHTSA interpret or amend the current regulations in the following areas:

1. Modify the paper form to include instructions for consumers to register the tires at the tire manufacturer's Web site. Also, permit on a voluntary basis the electronic registration of tires at the point of sale.

2. The current regulation only requires [independent] distributors to provide the form to first purchasers with the tire identification number and the dealer's name and address. Any revisions to the regulations to permit electronic or point-of-sale registration should not create any new or additional obligations for tire dealers or distributors by requiring them to register the tires.

3. The tire manufacturer obligations should remain the same under revision of this regulation. They should only be required to continue to provide the paper forms to tire dealers and distributors and, upon receipt of the forms, retain the consumer information for five years.

4. Through a NHTSA interpretation letter, a supplemental method of tire registration is permitted. However, the agency should amend its regulations to provide information for website registration directly on the existing paper form.

RMA requests that the agency make these changes expeditiously, either through additional interpretation letters or by opening a new rulemaking.

NADA generally supports the comments filed by RMA with regard to revising the regulations to permit website registration of tires, and refers to the agency's provisions for electronic registration of child safety seats in 49 CFR 571.213 as being instructive in this regard. In addition to allowing registration by Web site or fax, NADA stated that tire dealers should also be permitted to register the tires for the consumer, upon obtaining permission or a release from the consumer to do so.

NADA noted that it has stated in past information collection renewals that franchised automobile and truck dealers act as independent tire dealers as well. NADA questioned in those prior renewals, and also in the current one, why the agency estimtes that there are only 12,000 new tire dealers and distributors, when there are 20,000 franchised automobile and truck dealers.

CIMS stated that it provides tire registrations services to over 80 percent of tire manufacturers/brand owners in the replacement tire market and to over 12,000 tire dealers and distributors. CIMS is opposed to making changes to the existing tire registration regulations. CIMS stated that the current tire registration regulations are working, and that independent tire dealers using the CIMS All Brand Form can comply with the tire registration regulation for one penny or less per tire. Allowing electronic registration of tires will only cause more confusion, will remove the tire purchasers rights and ability to ensure that their tires are registered, and will increase the liability of independent tire dealers if the tire registration information is not completely transmitted to the tire manufacturer or if they jeopardize the privacy of tire purchaser information. CIMS indicated that tire registrations by year are as follows:

1997—37,000,000

2000—41,000,000 (Prior to Ford/Firestone recall)

2003—54,000,000 (corresponds with NHTSA estimates, Docket No. 06-26554)

2006—59,000,000

CIMS states that there will be added costs associated with electronic tire registration including developmental costs, software upgrades and employee training.

NTRR believes that changes are needed and that electronic registration over the internet would enhance public safety and would be consistent with paperwork reduction act priorities. Allowing electronic registration would also improve registration rates over the current methods. The July 18, 2003 interpretation letter from NHTSA to RMA leaves unanswered the extent to which electronic registration and other alternatives to paper forms can be used in compliance with 49 CFR Part 574. NTRR also noted that the tire registration from specified in 49 CFR Part 574 does not display the required OMB control number, nor does the agency adequately address privacy and confidentiality concerns under the PRA. NTRR recommends electronic registration in lieu of the paper forms.

TIA stated that it has worked closely with the RMA in reviewing the need to revise the current tire registration regulations in 49 CFR Part 574, and that it agrees with the four principles identified by RMA for revisions to the regulations. TIA states that any revisions to the regulations should not create any new or additional obligations for tire dealers and thus should not required the tire dealers to register the tires. Many TIA member tire dealers endorse electronic registration and are already doing so. NHTSA should adopt the changes recommended by RMA as quickly as possible.

Agency Evaluation of Comments: Upon reviewing the comments submitted in response to the 60-day notice, the agency is considering revisions to update 49 CFR Part 574 to provide, to the extent consistent with the agency's authority, allowances for electronic and other possible means of registering new tires at the point of sale. First, the agency will consider the inclusion of Web site registration information to be placed on the tire registration form in 574.7. Second, the agency plans to update the registration form to include the OMB control number. Third, the agency will fully evaluate what appropriate regulations are permissible to allow independent tire dealers to electronically register the tires on a voluntary basis for the consumer, within the requirements specified in Title 49, USC Chapter 301, Section 30117—providing information to, and maintaining records on, purchaser. Therefore, the agency will undertake rulemaking in 2007 to address these issues and provide the public with the opportunity to comment on the proposed changes. Based on the information in the public record and the comments received in response to the 60-day notice, the agency believes that it will be appropriate to issue a proposed rule.

The agency also reviewed the comments to determine if any information was submitted that would allow refinement of the agency's estimate for the burden of performing tire registrations. NADA commented that its member automobile and truck dealers, numbering 20,000, also act as independent tire dealers. NADA attached prior comments that it had made on the issue of tire registrations, and its comments dated September 1, 2000 stated that the total number of automobile and truck dealers was 22,500, but NADA did not know how many of these dealers were selling aftermarket tires that would qualify them as independent tire dealers. NADA stated that these dealers routinely provide new vehicle purchaser information to the vehicle manufacturer. However, the agency notes that under 574.9(b), these dealers are only required to provide tire registration forms to purchasers of new vehicles only if the tires were not on the motor vehicle when it was shipped b y the vehicle manufacturer. NADA did not provide any data on how frequently this occurs.

NADA also submitted comments stating that its automobile and truck dealers act as independent tire dealers when selling new, non-original tires on new vehicles, new tires on used vehicles, and/or new tires to service customers. Here again, NADA did not state how many of their dealers actually sell tires, but the agency assumes that all of them do have tire mounting equipment so they are likely to be engaged in such practice. This will add 20,000 tire dealers to the agency's estimate.

The agency searched the Modern Tire Dealers Web site for data and found that its statistics indicated that there are approximately 26,000 independent tire dealers.¹ Based on previous agency estimates that two-thirds of tire dealers are independent and one-third are non-independent, this would account for an additional 13,000 non-independent tire dealers.

¹ See http://www.moderntiredealer.com/t_pop_pdf.cfm?link=research/dts_v2.pdf.

Thus, the agency's new estimate for the number of affected tire dealers is as follows:

Independent Tire Dealers | 26,000
Non-Independent Tire Dealers | 13,000
Automobile and Truck Dealers | 20,000
Total Number of Tire Dealers | 59,000

In the 60-day notice, the estimated number of affected tire manufacturers was eight. We have done additional market research and now believe that number is low and the total number of tire manufacturers selling tires in the United States is closer to 20. Although the agency's Web site includes listings of 152 tire brands, most of these are private label brands whose tires are manufactured by the 20 tire manufacturers. The agency welcomes comments on this revised estimate.

No other comments were received on the accuracy of the agency's burden estimates, so the agency is not revising the remaining figures that were published in the 60-day notice.

The agency notes that incorrect information was provided in the 60-day notice regarding the length of time that tire manufacturers are required to retain the information provided by tire purchasers on the tire registration forms. The agency stated that this information is to be retained for three years, but as required in 49 CFR 574.7(d), the information must be retained for not less than five years. In addition, vehicle manufacturers are required to maintain records of the new tires on motor vehicles shipped by that manufacturer for not less than five years as required in 49 CFR 574.10(d).

In compliance with the requirements in 5 CFR part 1320, the agency requests comments on the following proposed collection of information:

Title: 49 CFR Part 574, Tire Identification and Recordkeeping.

OMB Control Number: 2127-0050.

Form Number: None.

Requested Expiration Date of Approval: Three years from approval date.

Type of Request: Extension of a currently approved collection.

Summary of the Collection of Information: 49 U.S.C. 30117(b) requires each tire manufacturer to collect and maintain records of the first purchasers of new tires. To carry out this mandate, 49 CFR part 574 requires tire dealers and distributors to record the names and addresses of retail purchasers of new tires and the identification number(s) of the tires sold. A specific form is provided to tire dealers and distributors by tire manufacturers for recording this information. The completed forms are returned to the tire manufacturers where they are retained for not less than five years. Additionally, motor vehicle manufacturers are required to record the names and addresses of the first purchasers (for purposes other than resale), together with the identification numbers of the tires on the new vehicles, and retain this information for not less than five years.

The Motor Vehicle Safety and Cost Savings Authorization Act of 1982 (Pub. L. 97-311) prohibited NHTSA from enforcing the mandatory tire registration provisions in 49 CFR part 574 against dealers and distributors whose business is not owned or controlled by a tire manufacturer (hereinafter referred to as “independent dealers”). For independent dealers, Congress specified that a voluntary registration system would take effect as soon as this agency specified the format and content of the voluntary tire registration forms and standardized the information for all independent dealers. Rulemaking was completed in 1984 to standardize the forms.

The previously specified mandatory tire registration requirements remain applicable to all dealers and distributors other than independent dealers and the requirements for tire and vehicle manufacturers are unchanged.

Description of the Need for the Information and the Proposed Use of the Information: The information is used by a tire manufacturer, when it determines that some of its tires either fail to comply with an applicable safety standard or contain a safety related defect. With the information, the tire manufacturer can notify the first purchaser of the tire and provide the purchaser with any necessary information or instructions.

Description of the Likely Respondents (Including Estimated Number and Proposed Frequency of Response to the Collection of Information): It is estimated that this collection of information affects 10 million respondents annually. This group consists of approximately 20 tire manufacturers, 59,000 new tire dealers and distributors, and 10 million consumers who choose to register their tire purchases with the tire manufacturers. A response is required by motor vehicle manufacturers upon each sale of a new vehicle and by non-independent tire dealers with each sale of a new tire. A consumer may elect to respond when purchasing a new tire from an independent dealer.

Estimate of the Total Annual Reporting and Recordkeeping Burden Resulting from the Collection of Information: The estimated burden is as follows:

New tire dealers and distributors | 59,000
Consumers | 10,000,000
Total tire registrations (manually) | 54,000,000
Total tire registration hours (manual) | ¹ 225,000
Recordkeeping hours (manual) | ¹ 25,000
Total annual tire registration and recordkeeping hours | ¹ 250,000
¹ Hours.

Authority: 44 U.S.C. 3506(c); delegation of authority at 49 CFR 1.50

Issued on: March 16, 2007.
Roger A. Saul,
Director, Office of Crashworthiness Standards.

[FR Doc. 07-1385 Filed 3-20-07; 8:45 am]

BILLING CODE 4910-59-M